ENVIRONMENTAL PROTECTION AGENCY

40 CFR Part 52

[EPA-R04-OAR-2007-0836-200739(w); FRL-8734-3]

Approval and Promulgation of Implementation Plans; Florida; Removal of Gasoline Vapor Recovery From Southeast Florida Areas; Withdrawal of Direct Final Rule

AGENCY: Environmental Protection Agency (EPA).

ACTION: Withdrawal of direct final rule.

SUMMARY: Due to an adverse comment, EPA is withdrawing the direct final rule published September 16, 2008 (73 FR 53378), approving a revision to the State Implementation Plan (SIP) of the State of Florida. This revision granted the removal of Stage II vapor control requirements for new and upgraded gasoline dispensing facilities in Dade, Broward, and Palm Beach Counties (also referred to as the “Southeast Florida Area”) and allowed the phase out of Stage II requirements for existing facilities in those counties. In addition, the revision included a SIP amendment to require new and upgraded gasoline dispensing facilities and new bulk gasoline plants statewide to employ Stage I vapor control systems, and required the phase in of Stage I vapor control requirements statewide for existing gasoline dispensing facilities. As stated in the direct final rule, if EPA received an adverse comment by October 16, 2008, the rule would be withdrawn and not take effect. EPA subsequently received an adverse comment on September 16, 2008. EPA will address the comment in a subsequent final action based upon the proposed action also published on September 16, 2008. EPA will not institute a second comment period on this action.

DATES: The direct final rule is withdrawn as of October 27, 2008.

FOR FURTHER INFORMATION CONTACT: Ms. Twunjala Bradley, Regulatory Development Section, Air Planning Branch, Air, Pesticides and Toxics Management Division, U.S. Environmental Protection Agency, Region 4, 61 Forsyth Street, SW., Atlanta, Georgia 30303-8960. The telephone number is (404) 562-9352. Ms. Bradley can also be reached via electronic mail at bradley.twunjala@epa.gov.

List of Subjects in 40 CFR Part 52

Environmental protection, Air Pollution control, Incorporation by Reference, Nitrogen dioxide, Ozone, Particulate matter, Reporting and recordkeeping requirements, Volatile organic compounds.

Dated: October 14, 2008.
Russell L. Wright,
Acting Regional Administrator, Region 4.

PART 52—[AMENDED]

Accordingly, the amendments to 40 CFR 52.520 (which were published in the Federal Register on September 16, 2008, at 73 FR 53378) are withdrawn as of October 27, 2008.

[FR Doc. E8-25473 Filed 10-24-08; 8:45 am]

BILLING CODE 6560-50-P